DEPARTMENT OF TRANSPORTATION

Federal Aviation Administration

14 CFR Part 39

[Docket No. FAA-2008-1363; Directorate Identifier 2008-NM-104-AD]

RIN 2120-AA64

Airworthiness Directives; Boeing Model 767-200, -300, and -300F Series Airplanes

AGENCY: Federal Aviation Administration (FAA), DOT.

ACTION: Notice of proposed rulemaking (NPRM).

SUMMARY: We propose to adopt a new airworthiness directive (AD) for certain Boeing Model 767-200, -300, and -300F series airplanes. This proposed AD would require repetitive inspections for fatigue cracking and corrosion of the upper link fuse pin of the nacelle struts, and related investigative and corrective actions if necessary. This proposed AD would also provide terminating action for the repetitive inspections. This proposed AD results from two reports of cracked upper link fuse pins. We are proposing this AD to prevent fatigue cracking or corrosion of the upper link fuse pin, which could result in failure of the fuse pin and consequent reduced structural integrity of the nacelle strut and possible separation of the strut and engine from the airplane during flight.

DATES: We must receive comments on this proposed AD by February 26, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207; telephone 206-544-9990; fax 206-766-5682; e-mail DDCS@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tamara Anderson, Aerospace Engineer, Airframe Branch, ANM-120S, FAA, Seattle Aircraft Certification Office (ACO), 1601 Lind Avenue, SW., Renton, Washington 98057-3356; telephone (425) 917-6421; fax (425) 917-6590.

SUPPLEMENTARY INFORMATION:

Comments Invited

We invite you to send any written relevant data, views, or arguments about this proposed AD. Send your comments to an address listed under the ADDRESSES section. Include “Docket No. FAA-2008-1363; Directorate Identifier 2008-NM-104-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Other Relevant Rulemaking

On September 21, 2000, we issued AD 2000-19-09, amendment 39-11910 (65 FR 58641, October 2, 2000), applicable to certain Boeing Model 767 series airplanes powered by Rolls-Royce RB211 series engines. AD 2000-19-09 requires modification of the nacelle strut and wing structure, and addresses fatigue cracking in primary strut structure and consequent reduced structural integrity of the strut.

On July 29, 2004, we issued AD 2004-16-12, amendment 39-13768 (69 FR 51002, August 17, 2004), applicable to certain Boeing Model 767-200, -300, and -300F series airplanes powered by Pratt & Whitney engines and General Electric engines. That AD supersedes three existing airworthiness directives and requires modification of the nacelle strut and wing structure. For certain airplanes, that AD also requires reworking the aft pitch load fitting, and installing a new diagonal brace fuse pin; for certain other airplanes, that AD requires replacing the outboard pitch load fitting of the wing front spar with a new, improved fitting, which terminates certain repetitive inspections. That AD addresses fatigue cracking in primary strut structure, which could result in separation of the strut and engine from the airplane.

Discussion

Since we issued AD 2000-19-09 and AD 2004-16-12, we received two reports of cracked upper link fuse pins. The two airplanes had accumulated 11,573 total flight cycles and 14,780 total flight cycles and are powered by Pratt & Whitney PW4000 engines. Boeing analysis found cracks in the longitudinal direction of the fuse pins. The longitudinal cracks were the result of fatigue loads. No material anomalies were found. Fatigue cracking or corrosion of the upper link fuse pin could result in failure of the fuse pin and consequent reduced structural integrity of the nacelle strut and possible separation of the strut and engine from the airplane during flight.

Relevant Service Information

We have reviewed Boeing Alert Service Bulletin 767-54A0074, Revision 1, dated April 24, 2008. The service bulletin describes procedures for repetitive detailed inspections of the upper link fuse pin of the nacelle struts for corrosion, and related investigative and corrective actions if necessary. The related investigative and corrective actions include replacing the fuse pin with a new fuse pin if corrosion is found; doing a high frequency eddy current (HFEC) inspection for cracking if no fuse pin corrosion is found; doing a magnetic particle inspection of the inside surface of the upper link fuse pin for cracking; and replacing the fuse pin with a new fuse pin if cracking is found, and applying corrosion preventive compound on the upper link fuse pin before further flight.

FAA's Determination and Requirements of This Proposed AD

We are proposing this AD because we evaluated all relevant information and determined the unsafe condition described previously is likely to exist or develop in other products of these same type designs. This proposed AD would require accomplishing the actions specified in the service information described previously. Accomplishing the modifications required by AD 2000-19-09 and AD 2004-16-12 would terminate the repetitive inspections required by paragraph (f) of this proposed AD.

Costs of Compliance

We estimate that this proposed AD would affect 354 airplanes of U.S. registry. We also estimate that it would take about 4 work-hours per product to comply with this proposed AD. The average labor rate is $80 per work-hour. Based on these figures, we estimate the cost of this proposed AD to the U.S. operators to be $113,280, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2008-1363; Directorate Identifier 2008-NM-104-AD.

Comments Due Date

(a) We must receive comments by February 26, 2009.

Affected ADs

(b) None.

Applicability

(c) This AD applies to Boeing Model 767-200, -300, and -300F series airplanes, certificated in any category, as identified in Boeing Alert Service Bulletin 767-54A0074, Revision 1, dated April 24, 2008.

Unsafe Condition

(d) This AD results from two reports of cracked upper link fuse pins. We are issuing this AD to prevent fatigue cracking or corrosion of the upper link fuse pin, which could result in failure of the fuse pin and consequent reduced structural integrity of the nacelle strut and possible separation of the strut and engine from the airplane during flight.

Compliance

(e) Comply with this AD within the compliance times specified, unless already done.

Initial and Repetitive Inspections/Investigative and Corrective Actions

(f) Inspect the upper link fuse pin of the nacelle struts for fatigue cracking and corrosion at the applicable time specified in Table 1 of this AD. Do the applicable inspection by doing all the applicable actions specified in the Accomplishment Instructions of Boeing Alert Service Bulletin 767-54A0074, Revision 1, dated April 24, 2008; and do all applicable related investigative and corrective actions before further flight. Repeat the applicable inspection at intervals not to exceed 3,000 flight cycles or 24 months, whichever is first, until paragraph (g) of this AD has been done.

Table 1—Compliance Times
Engine type | At the later of: Initial inspection threshold | Grace period
JT9D | 14,000 total flight cycles | Within 3,000 flight cycles or 18 months after the effective date of this AD, whichever is first.
CF6-80A | 24,000 total flight cycles | Within 3,000 flight cycles or 18 months after the effective date of this AD, whichever is first.
PW4000 | 8,000 total flight cycles | Within 3,000 flight cycles or 18 months after the effective date of this AD, whichever is first.
CF6-80C2 | 10,000 total flight cycles | Within 3,000 flight cycles or 18 months after the effective date of this AD, whichever is first.
RB211 | 24,000 total flight cycles | Within 3,000 flight cycles or 18 months after the effective date of this AD, whichever is first.

Terminating Action in AD 2000-19-09 and AD 2004-16-12

(g) Accomplishment of the modification specified in paragraph (g)(1) or (g)(2) of this AD, as applicable, terminates the inspections required by paragraph (f) of this AD.

(1) For Model 767 series airplanes powered by Rolls-Royce RB211 series engines, as identified in AD 2000-19-09: Modification of the nacelle strut and wing structure, as required by paragraphs (a) and (b) of AD 2000-19-09.

(2) For Model 767-200, -300, and -300F series airplanes powered by Pratt & Whitney and General Electric engines, as identified in AD 2004-16-12: Modification of the nacelle strut and wing structure, as required by paragraphs (a), (b), (d), and (e) of AD 2004-16-12.

Credit for Actions Done Using Previous Service Information

(h) Replacement of the fuse pins with new fuse pins before the effective date of this AD in accordance with Boeing Service Bulletin 767-54-0074, dated March 27, 1997, is acceptable for compliance with the corresponding requirements of this AD.

Alternative Methods of Compliance (AMOCs)

(i)(1) The Manager, Seattle Aircraft Certification Office (ACO), FAA, ATTN: Tamara Anderson, Aerospace Engineer, Airframe Branch, ANM-120S, FAA, Seattle ACO, 1601 Lind Avenue, SW., Renton, Washington 98057-3356; telephone (425) 917-6421; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Issued in Renton, Washington, on December 18, 2008.
Stephen P. Boyd,
Assistant Manager, Transport Airplane Directorate, Aircraft Certification Service.

[FR Doc. E9-313 Filed 1-9-09; 8:45 am]

BILLING CODE 4910-13-P